DEPARTMENT OF ENERGY

Federal Energy Regulatory Commission

[Docket No. RP00-384-000]

Overthrust Pipeline Company; Notice of Tariff Filing

July 14, 2000.

Take notice that on July 12, 2000, Overthrust Pipeline Company (Overthrust) tendered for filing as part of its FERC Gas Tariff, First Revised Volume No. 1, the following tariff sheets, to be effective March 26, 2000:

Fifth Revised Sheet No. 4

Fourth Revised Sheet No. 5

Third Revised Sheet No. 47

Sixth Revised Sheet No. 48

Sixth Revised Sheet No. 49

Fifth Revised Sheet No. 49A

Second Revised Sheet No. 49B

Original Sheet No. 49C

Fourth Revised Sheet No. 51

Third Revised Sheet No. 52

Third Revised Sheet No. 52A

Original Sheet No. 52B

On February 9, 2000, and May 19, 2000, the Commission issued Order No. 637 and 637-A, respectively, in Docket Nos. RM98-10 and RM98-12 requiring pipeline companies to, among other things, waive the price ceiling for short-term capacity-release transactions. The filing reflected modifications in Overthrust's tariff to incorporate this requirement.

Overthrust states that a copy of this filing has been served upon it customers, the Public Service Commission of Utah and the Public Service Commission of Wyoming.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protest will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-18333 Filed 7-19-00; 8:45 am]

BILLING CODE 6717-01-M